ENVIRONMENTAL PROTECTION AGENCY

40 CFR Part 52

[EPA-R02-OAR-2018-0549, FRL-9984-58-Region 2]

Approval and Promulgation of Implementation Plans; New Jersey; Elements for the 2008 8-Hour Ozone National Ambient Air Quality Standards

AGENCY: Environmental Protection Agency (EPA).

ACTION: Final rule.

SUMMARY: The Environmental Protection Agency (EPA) is approving several State Implementation Plan (SIP) revisions submitted by the State of New Jersey for purposes of implementing Reasonably Available Control Technology (RACT) for the 2008 8-hour ozone National Ambient Air Quality Standard (NAAQS). The EPA is approving New Jersey's SIP revision for the control and prohibition of air pollution by volatile organic compounds (VOCs) and control and prohibition of air pollution by oxides of nitrogen (NOX), as they are intended to satisfy certain control technique guideline (CTG) and NOX RACT categories. The EPA is approving New Jersey's certification that there are no sources within the State for the following CTGs: Manufacture of Vegetable Oils; Manufacture of Pneumatic Rubber Tires; Aerospace Coatings; Shipbuilding and Ship Repair Operations; Metal Furniture Coatings; Large Appliance Coatings; and Auto and Light Duty Truck Original Equipment Manufacturer Assembly Coatings. In addition, the EPA is approving New Jersey's RACT SIP as it applies to non-CTG major sources of VOCs and major sources of NOX. The EPA is also approving the portions of the comprehensive SIP revision submitted by New Jersey that certify that the State has satisfied the requirements for an enhanced motor vehicle Inspection and Maintenance program, certify that the State has satisfied the requirements for an emission statement program, certify that the State has satisfied the requirements for an ozone specific provisions nonattainment new source review program, and show the State has adopted all NOX RACT and VOC RACT, as it pertains to the 2008 8-hour ozone NAAQS. These actions are being taken in accordance with the requirements of the Clean Air Act.

DATES: This final rule is effective on November 8, 2018.

ADDRESSES: The EPA has established a docket for this action under Docket ID Number EPA-R02-OAR-2018-0549. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available electronically through https://www.regulations.gov.

FOR FURTHER INFORMATION CONTACT: Omar Hammad, Environmental Protection Agency, 290 Broadway, New York, New York 10007-1866, at (212) 637-3347, or by email at Hammad.Omar@epa.gov.

SUPPLEMENTARY INFORMATION: The SUPPLEMENTARY INFORMATION section is arranged as follows:

Table of Contents

I. What is the background for this action?

II. What comments were received in response to the EPA's proposed action?

III. What action is the EPA taking?

IV. Incorporation by Reference

V. Statutory and Executive Order Reviews

I. What is the background for this action?

On July 31, 2018 (83 FR 36816), the EPA published a Notice of Proposed Rulemaking that proposed to approve the State of New Jersey's State Implementation Plan (SIP) submittals,¹ for purposes of implementing Reasonably Available Control Technology (RACT) ² for the 20088-hour ozone National Ambient Air Quality Standard (NAAQS or standard). The EPA proposed to approve New Jersey's June 11, 2015 SIP submittal, showing that the State meets the RACT requirements for the 2008 8-hour ozone standards. The EPA proposed to approve New Jersey's June 11, 2015 RACT SIP as it applies to non-CTG major sources of VOCs and to major sources of NOX. The EPA also proposed to approve the December 14, 2017 submittal, which established new limits on NOX emissions from existing simple cycle combustion turbines combusting natural gas and compressing gaseous fuel at major NOX facilities and stationary reciprocating engines combusting natural gas and compressing gaseous fuel at major NOX facilities and indicated that the RACT requirements for the 2008 ozone NAAQS have been fulfilled for sources subject to the following four CTGs: Industrial Cleaning Solvents (EPA 453/R-06-001); Paper, Film, and Foil Coatings (EPA 453/R-07-003); Miscellaneous Metal and Plastic Parts Coatings (EPA 453/R-08-003); and Fiberglass Boat Manufacturing Materials (EPA-453/R-08-004). The EPA also proposed to approve the portion of New Jersey's SIP revision submitted on January 2, 2018, that certifies the State has satisfied the requirements for a motor vehicle enhanced inspection and maintenance (I/M) program, an emission statement program, an ozone specific provisions nonattainment new source review (NNSR) program, and that the State has adopted all applicable NOX RACT and VOC RACT.

¹ New Jersey's SIP submittals included; submittals with cover letters dated June 11, 2015; November 30, 2017; and December 22, 2017.

² The EPA has defined RACT as the lowest emission limitation that a particular source is capable of meeting by the application of control technology that is reasonably available considering technological and economic feasibility (44 FR 53762, September 17, 1979).

The specific details of New Jersey's SIP submittals and the rationale for the EPA's approval action are explained in the EPA's proposed rulemaking and are not restated in this final action. For this detailed information, the reader is referred to the EPA's July 31, 2018 proposed rulemaking (83 FR 36816).

II. What comments were received in response to the EPA's proposed action?

In response to the EPA's July 31, 2018 proposed rulemaking on New Jersey's SIP submittals, the EPA received four comments during the 30-day public comment period. The specific comments may be viewed under Docket ID Number EPA-R02-OAR-2018-0549 on the https://www.regulations.gov website.

After reviewing the comments, EPA has determined that the comments are outside the scope of our proposed action or fail to identify any material issue necessitating a response. The comments do not raise issues germane to EPA's proposed action. They do not explain (or provide a legal basis for) how the proposed action should differ in any way and make no specific mention of the proposed action. Since the comments are not relevant to the specific action EPA proposed, EPA will not provide a specific response to the comments.

III. What action is the EPA taking?

The EPA has evaluated New Jersey's SIP submittals and has determined that they are consistent with the EPA's guidance documents as well as the EPA's CTG and Alternative Control Technique (ACT) documents and are fully approvable as SIP-strengthening measures for New Jersey's ozone SIP. Specifically, EPA is approving New Jersey's state-wide RACT submittal dated June 11, 2015 and the State's December 14, 2017 SIP revision rule, which include a declaration that the following source-specific categories either do not exist in this State, or fall below significant emission unit applicability thresholds in the CTGs: (1) Manufacture of Vegetable Oils; (2) Manufacture of Pneumatic Rubber Tires; (3) Aerospace Coatings; (4) Shipbuilding and Ship Repair Operations; (5) Metal Furniture Coatings; (6) Large Appliance Coatings; and (7) Auto and Light Duty Truck Original Equipment Manufacturer (OEM) Assembly Coatings. The submittals also include amendments to N.J.A.C. 7:27, Subchapter 16, “Control and Prohibition of Air Pollution by Volatile Organic Compounds,” Subchapter 19, “Control and Prohibition of Air Pollution by Oxides of Nitrogen,” ³ for purposes of satisfying the 2008 8-hour ozone standard RACT requirements, NOx RACT for major sources, Non-CTG VOC RACT for major sources, all VOC CTG RACT sources and relevant OTR RACT requirements. The EPA is also approving portions of New Jersey's January 2, 2018 SIP revision ⁴ that certifies the State has satisfied the requirements for an enhanced motor vehicle I/M program, an emission statement program, and ozone specific provisions NNSR program.

³ State Effective dates for both rules is November 6, 2017 (49 N.J.R. 3518).

⁴ The EPA will act on the remainder of New Jersey's January 2, 2018 SIP revision submittal, including the attainment demonstrations, Reasonable Further Progress (RFP) requirements and other portions at a later date.

IV. Incorporation by Reference

In this rule, EPA is finalizing regulatory text that includes incorporation by reference. In accordance with requirements of 1 CFR 51.5, EPA is finalizing the incorporation by reference of revisions to portions of Title 7, Chapter 27: Subchapter 16 and 19 of the New Jersey Administrative Code that implement New Jersey's Control and Prohibition of Air Pollution by Volatile Organic Compounds and Control and Prohibition of Air Pollution from Oxides of Nitrogen, as described in section III of this preamble.

EPA has made, and will continue to make, these materials generally available through www.regulations.gov and at the EPA Region 2 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.⁵

⁵ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 10, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: September 11, 2018.
Peter D. Lopez,
Regional Administrator, Region 2.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart FF—New Jersey

2. In § 52.1570:

a. The table in paragraph (c) is amended by revising the entries for “Title 7, Chapter 27, Subchapter 16” and “Title 7, Chapter 27, Subchapter 19”; and

b. The table in paragraph (e) is amended by adding the entries for “2008 8-hour Ozone RACT analysis”, “2008 8-hour Ozone Nonattainment New Source Review Requirements”, “2008 8-hour Ozone Nonattainment Emission Statement Program Certification” and “2008 8-hour Ozone Nonattainment Motor Vehicle Enhanced Inspection and Maintenance (I/M) Program Certification” at the end of the table.

The revisions and additions read as follows:

§ 52.1570 Identification of plan.

* * * * *

(c) * * *

EPA-Approved New Jersey State Regulations and Laws
State citation | Title/subject | State effective date | EPA approval date | Comments
* * * * * * *
Title 7, Chapter 27, Subchapter 16 | Control and Prohibition of Air Pollution by Volatile Organic Compounds | November 6, 2017 | October 9, 2018, Insert Federal Register citation] |
* * * * * * *
Title 7, Chapter 27, Subchapter 19 | Control and Prohibition of Air Pollution from Oxides of Nitrogen | November 6, 2017 | October 9, 2018, Insert Federal Register citation] | Subchapter 19 is approved into the SIP except for the following provisions: (1) Phased compliance plan through repowering in Section 19.21 that allows for implementation beyond May 1, 1999; and (2) phased compliance plan through the use of innovative control technology in Section 19.23 that allows for implementation beyond May 1, 1999.
* * * * * * *

* * * * *

(e) * * *

EPA-Approved New Jersey Nonregulatory and Quasi-Regulatory Provisions
SIP element | Applicable geographic or nonattainment area | New Jersey submittal date | EPA approval date | Explanation
* * * * * * *
2008 8-hour Ozone RACT Analysis | Statewide | June 11, 2015 and January 2, 2018 | October 9, 2018, Insert Federal Register citation] | • Full approval. Includes CTGs, NOX RACT for major sources and non-CTG RACT sources.
2008 8-hour Ozone Specific Nonattainment New Source Review Requirements | Statewide | January 2, 2018 | October 9, 2018, Insert Federal Register citation] | • Full approval.
2008 8-hour Ozone Nonattainment Emission Statement Program Certification | Statewide | January 2, 2018 | October 9, 2018, Insert Federal Register citation] | • Full approval.
2008 8-hour Ozone Nonattainment Motor Vehicle Enhanced Inspection and Maintenance (I/M) Program Certification | Statewide | January 2, 2018 | October 9, 2018, Insert Federal Register citation] | • Full approval.

[FR Doc. 2018-21465 Filed 10-5-18; 8:45 am]

BILLING CODE 6560-50-P